EMERGENCY OIL AND GAS GUARANTEED LOAN BOARD

Emergency Oil and Gas Guaranteed Loan Program; Guarantee Agreement

ACTION: Proposed collection; comment request.

SUMMARY: The Emergency Oil and Gas Guaranteed Loan Board, as part of its continuing effort to reduce paperwork and respondent burden, invites the general public and other Federal agencies to take this opportunity to comment on the continuing information collections, as required by the Paperwork Reduction Act of 1995, Public Law 104-13 (44 U.S.C. 3506 (c)(2)(A)).

DATES: Written comments must be submitted on or before September 11, 2000.

ADDRESSES: Direct all written comments to Linda Engelmeier, Departmental Forms Clearance Officer, (202) 482-3272, Email Lengelme@doc.gov., Department of Commerce, Room 6086, 14th & Constitution Avenue, NW., Washington, DC 20230.

FOR FURTHER INFORMATION CONTACT: Requests for additional information or copies of the information collection instrument and instructions should be directed to: Daniel J. Rooney, Executive Secretary, Emergency Oil and Gas Guaranteed Loan Board, Room 2500, 1401 Constitution Ave, NW., Washington, DC 20230; phone: (202) 219-0575, and fax: (202) 219-0585.

SUPPLEMENTARY INFORMATION:

I. Abstract

Pursuant to “The Emergency Oil and Gas Guaranteed Loan Act of 1999,” Chapter 2, Public Law 106-51, the Emergency Oil and Gas Guaranteed Loan Board developed a guarantee agreement that must be signed by qualified oil and gas companies that receive loan guarantees. The information being collected will be used and is necessary to ensure that the applicant is meeting the conditions of the guarantee agreement and to protect the Federal government from default and/or fraud. The information is also required as supporting documentation for annual or other audits that may be conducted by or on behalf of the Board or by the General Accounting Office (GAO) for as long as the guarantee agreement is in effect.

II. Method of Collection

The application forms, the guarantee documents and the National Environmental Policy Act submission forms will all be available on the Department of Commerce's website. Applicants may download the required forms.

III. Data

OMB Number: 3003-0002.

Form Number: ELB-1.

Type of Review: Regular submission.

Affected Public: Business or other for-profit.

Estimated Number of Respondents: 23.

Estimated Time Per Response: 80 hours.

Estimated Total Annual Burden Hours: 1,475 hours.

Estimated Total Annual Cost: $124,900 (Government $60,000, Respondents $64,900).

IV. Requested for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: July 7, 2000.
Madeleine Clayton,
Management Analyst, Office of the Chief Information Officer.

[FR Doc. 00-17592 Filed 7-11-00; 8:45 am]

BILLING CODE 3510-DR-P